DEPARTMENT OF EDUCATION

Notice of Proposed Information Collection Requests

AGENCY: Department of Education.

ACTION: Correction notice.

SUMMARY: On September 11, 2002, the Department of Education published a 60-day public comment period notice in the Federal Register (Page 57584, Column 1) for the information collection, “Direct Loan Income Contingent Repayment Plan Alternative Document of Income”. The correct title for this collection is “Income Contingent Repayment Plan—Consent to Disclosure of Tax Information”. The Leader, Regulatory Management Group, Office of the Chief Information Officer, hereby issues a correction notice as required by the Paperwork Reduction Act of 1995.

FOR FURTHER INFORMATION CONTACT: Lew Oleinick at his e-mail address Lew.Oleinick@ed.gov.

Dated: November 13, 2002.
John D. Tressler,
Leader, Regulatory Management Group, Office of the Chief Information Officer.

[FR Doc. 02-29223 Filed 11-18-02; 8:45 am]

BILLING CODE 4000-01-P